DEPARTMENT OF ENERGY

Federal Energy Regulatory Commission

Combined Notice of Filings #1

Take notice that the Commission received the following electric rate filings:

Docket Numbers: ER17-437-005.

Applicants: Marcus Hook 50, L.P.

Description: Compliance filing: Settlement rate implementation to be effective 12/28/2016.

Filed Date: 7/19/17.

Accession Number: 20170719-5086.

Comments Due: 5 p.m. ET 8/9/17.

Docket Numbers: ER17-1320-001.

Applicants: Odyssey Solar, LLC.

Description: Report Filing: Supplement to 4 to be effective N/A.

Filed Date: 7/19/17.

Accession Number: 20170719-5090.

Comments Due: 5 p.m. ET 8/9/17.

Docket Numbers: ER17-2112-000.

Applicants: Midcontinent Independent System Operator, Inc.

Description: § 205(d) Rate Filing: 2017-07-19_Planning Resource Auction Offer Window Filing to be effective 9/18/2017.

Filed Date: 7/19/17.

Accession Number: 20170719-5148.

Comments Due: 5 p.m. ET 8/9/17.

Docket Numbers: ER17-2113-000.

Applicants: Midcontinent Independent System Operator, Inc.

Description: Request for Waiver of Midcontinent Independent System Operator, Inc.

Filed Date: 7/19/17.

Accession Number: 20170719-5179.

Comments Due: 5 p.m. ET 8/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2017.
Kimberly D. Bose,
Secretary.

[FR Doc. 2017-15647 Filed 7-25-17; 8:45 am]

BILLING CODE 6717-01-P